DEPARTMENT OF HOMELAND SECURITY

Federal Emergency Management Agency

[Docket ID FEMA-2009-0012]

NIMS Training Plan

AGENCY: Federal Emergency Management Agency, DHS.

ACTION: Notice of availability; request for comments.

SUMMARY: The Federal Emergency Management Agency (FEMA) is requesting public comments on the NIMS Training Plan. This plan defines National Incident Management System (NIMS) national training. It specifies stakeholder responsibilities and activities for developing, maintaining, and sustaining NIMS training. In addition to delineating responsibilities and actions, the NIMS Training Plan defines the process for developing training and personnel qualification requirements for emergency management/response personnel.

DATES: Comments must be received by February 22, 2011.

ADDRESSES: You may submit comments, identified by Docket ID FEMA-2009-0012, by one of the following methods:

Federal eRulemaking Portal: http://www.regulations.gov. Follow the instructions for submitting comments.

E-mail: FEMA-POLICY@dhs.gov. Include Docket ID FEMA-2009-0012 in the subject line of the message.

Fax: 703.483.2999.

Mail/Hand Delivery/Courier: Office of Chief Counsel, Federal Emergency Management Agency, Room 835, 500 C Street, SW., Washington, DC 20472.

Instructions: All submissions received must include the agency name and docket ID. Regardless of the method used for submitting comments or material, all submissions will be posted, without change, to the Federal eRulemaking Portal at http://www.regulations.gov, and will include any personal information you provide. Therefore, submitting this information makes it public. You may wish to read the Privacy Act notice that is available via the Privacy Notice link in the footer of http://www.regulations.gov.

Docket: For access to the docket to read background documents or comments received, go to the Federal eRulemaking Portal at http://www.regulations.gov. Submitted comments may also be inspected at FEMA, Office of Chief Counsel, Room 835, 500 C Street, SW., Washington, DC 20472.

FOR FURTHER INFORMATION CONTACT: Kevin Molloy, Program Specialist, Emergency Management Institute, 16825 South Seton Avenue, Building G-Room 209, Emmitsburg, MD 21727. Phone: 301.447.1383.

SUPPLEMENTARY INFORMATION: On March 1, 2004, the Department of Homeland Security published the initial version of the National Incident Management System (NIMS). NIMS provides a consistent nationwide template to enable Federal, State, Tribal, and local governments, the private sector, and nongovernmental organizations to work together to prepare for, prevent, respond to, recover from, and mitigate the effects of incidents regardless of cause, size, location, or complexity. This consistency provides the foundation for use of NIMS for all incidents, ranging from daily occurrences to incidents requiring a coordinated Federal response. The NIMS document was revised and released in December 2008 based on input from stakeholders at every level within the Nation's response community and lessons learned during recent incidents.

A critical tool in promoting the nationwide implementation of NIMS is a well-developed training program that guides and enables NIMS training throughout the Nation. Core competencies will form the basis of the training courses' learning objectives and personnel qualifications that validate proficiency.

The National Integration Center at FEMA is charged with developing NIMS core competencies, training courses, and personnel qualifications. This updated NIMS Training Plan describes the operational foundations of these efforts, defines NIMS core competencies, training courses, and personnel qualifications as part of NIMS national training, assembles and updates the training guidance for available NIMS courses (organized as a core curriculum), and lays out a future plan to continue development of NIMS national training.

The document is available for nationwide review at http://www.regulations.gov under Docket ID FEMA-2009-0012. FEMA will review all comments received and may revise the document accordingly. Once the revision is complete, FEMA will release the final draft to the nation and post it on the NIMS Resource Center: http://www.fema.gov/nims.

Authority: 6 U.S.C. 312; Homeland Security Presidential Directive (HSPD)-5.

Dated: January 11, 2011.
W. Craig Fugate,
Administrator, Federal Emergency Management Agency.

[FR Doc. 2011-1111 Filed 1-19-11; 8:45 am]

BILLING CODE 9111-46-P